DEPARTMENT OF THE INTERIOR

National Park Service

[NPS-WASO-NAGPRA-11902; 2200-1100-665]

Notice of Inventory Completion: Natural History Museum of Utah, Salt Lake City, UT

AGENCY: National Park Service, Interior.

ACTION: Notice.

SUMMARY: The Natural History Museum of Utah has completed an inventory of human remains and associated funerary objects, in consultation with the appropriate Indian tribes, and has determined that there is a cultural affiliation between the human remains and associated funerary objects and a present-day Indian tribe. Representatives of any Indian tribe that believes itself to be culturally affiliated with the human remains and associated funerary objects may contact the Natural History Museum of Utah. Repatriation of the human remains and associated funerary objects to the Indian tribe stated below may occur if no additional claimants come forward.

DATES: Representatives of any Indian tribe that believes it has a cultural affiliation with the human remains and associated funerary objects should contact the Natural History Museum of Utah at the address below by February 11, 2013.

ADDRESSES: Duncan Metcalfe, Natural History Museum of Utah, 301 Wakara Way, Salt Lake City, UT 84108, telephone (801) 581-3876.

SUPPLEMENTARY INFORMATION: Notice is here given in accordance with the Native American Graves Protection and Repatriation Act (NAGPRA), 25 U.S.C. 3003, of the completion of an inventory of human remains and associated funerary objects in the possession of the Natural History Museum of Utah. The human remains and associated funerary objects were removed from San Pete and Utah counties, UT.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Natural History Museum of Utah professional staff and representatives of the Confederated Tribes of the Goshute Reservation, Nevada and Utah, and the Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes)). On January 15, 2010, a report of historic-period human remains believed to be affiliated with the Numic tribes of Utah was issued to representatives of the Confederated Tribes of the Goshute Reservation, Nevada and Utah; Northwestern Band of Shoshoni Nation (previously listed as the Northwestern Band of Shoshoni Nation of Utah (Washakie)); Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes)); Skull Valley Band of Goshute Indians of Utah; and the Ute Indian Tribe of the Uintah & Ouray Reservation, Utah [hereafter referred to as “The Tribes”].

History and Description of the Remains

In about 1953, human remains representing, at minimum, three individuals were removed by children from site 42SP5 near the town of Indianola, in San Pete County, UT. The remains were found under a series of shallow overhangs under large flat rocks. Seven to ten juniper poles were placed over the burials, which were placed on juniper bark. The human remains and associated funerary objects were donated to the University of Utah in 1953. Transfer of the University of Utah's anthropology collections to the Natural History Museum of Utah occurred on November 10, 1972. No known individuals were identified. The 72 associated funerary objects are 1 lot of lead balls, 1 lot of caps and shells, 1 lot of wood fragments, 13 pieces of horse tack, 3 saddle fragments, 1 knife sheath, 1 rifle and barrel, 1 lot of bullet molds, 1 file, 1 pair of scissors, 2 knives, 1 hammer, 2 pairs of pliers, 1 beaded bracelet, 1 elbow pipe, 1 shaped glass, 1 shaft straightener, 7 textile fragments, 6 buckskin fragments, 13 pieces of metal, 7 unworked faunal bones, 2 buttons, and 4 awls.

In about 1966, human remains representing, at minimum, one individual were found at the base of a rockslide at the mouth of Spanish Fork Canyon, in Utah County, UT. The human remains and associated funerary objects were donated to the University of Utah in 1966. Transfer of the University of Utah's anthropology collections to the Natural History Museum of Utah occurred on November 10, 1972. No known individuals were identified. The 5 associated funerary objects include 1 tinkler cone, 2 pieces of unworked wood, 1 lot of equestrian tack, and 1 wood tool.

The result of an osteological analysis indicates that the human remains listed in this notice are Native American. Based on the geographic location of the burial and the presence of historic material cultural in the mound, it has been determined that the human remains are affiliated with the Ute Indian Tribe of the Uintah & Ouray Reservation, Utah, who inhabited this area during the protohistoric and contact period.

Determinations Made by the Natural History Museum of Utah

Officials of the Natural History Museum of Utah have determined that:

• Pursuant to 25 U.S.C. 3001(9), the human remains described in this notice represent the physical remains of four individuals of Native American ancestry.

• Pursuant to 25 U.S.C. 3001(3)(A), the 77 objects described above are reasonably believed to have been placed with or near individual human remains at the time of death or later as part of the death rite or ceremony.

• Pursuant to 25 U.S.C. 3001(2), there is a relationship of shared group identity that can be reasonably traced between the Native American human remains and associated funerary objects and the Ute Indian Tribe of the Uintah & Ouray Reservation, Utah.

Additional Requestors and Disposition

Representatives of any Indian tribe that believes itself to be culturally affiliated with the human remains and associated funerary objects should contact Duncan Metcalfe, Natural History Museum of Utah, 301 Wakara Way, Salt Lake City, UT 84108, telephone (801) 581-3876, before February 11, 2013. Repatriation of the human remains and associated funerary objects to the Ute Indian Tribe of the Uintah & Ouray Reservation, Utah, may proceed after that date if no additional claimants come forward.

The Natural History Museum of Utah is responsible for notifying The Tribes that this notice has been published.

Dated: December 11, 2012.
Sherry Hutt,
Manager, National NAGPRA Program.

[FR Doc. 2013-00448 Filed 1-10-13; 8:45 am]

BILLING CODE 4312-50-P